DEPARTMENT OF THE INTERIOR

Fish and Wildlife Service

50 CFR Part 92

[Docket No. FWS-R7-MB-2020-0022; FXMB12610700000-201-FF07M01000]

RIN 1018-BF12

Migratory Bird Subsistence Harvest in Alaska; Updates to the Regulations

AGENCY: Fish and Wildlife Service, Interior.

ACTION: Proposed rule.

SUMMARY: The U.S. Fish and Wildlife Service (Service or we) is proposing changes to the migratory bird subsistence harvest regulations in Alaska. These regulations allow for the continuation of customary and traditional subsistence uses of migratory birds in Alaska and prescribe regional information on when and where the harvesting of birds may occur. These regulations were developed under a co-management process involving the Service, the Alaska Department of Fish and Game, and Alaska Native representatives. The proposed changes would update the regulations to incorporate revisions requested by these partners.

DATES: We will accept comments received or postmarked on or before June 10, 2020.

ADDRESSES: You may submit comments by one of the following methods:

• Federal eRulemaking Portal: http://www.regulations.gov. Follow the instructions for submitting comments to Docket No. FWS-R7-MB-2020-0022.

• U.S. mail or hand-delivery: Public Comments Processing, Attn: FWS-R7-MB-2020-0022; U.S. Fish and Wildlife Service, MS: JAO/1N, 5275 Leesburg Place, Falls Church, VA 22041-3803.

We will post all comments on http://www.regulations.gov. This generally means that we will post any personal information you provide us (see the Public Comment Procedures section, below, for more information).

FOR FURTHER INFORMATION CONTACT: Cheryl Graves, U.S. Fish and Wildlife Service, 1011 E Tudor Road, Mail Stop 201, Anchorage, AK 99503; (907) 786-3887.

SUPPLEMENTARY INFORMATION:

Public Comment Procedures

To ensure that any action resulting from this proposed rule will be as accurate and as effective as possible, we request that you send relevant information for our consideration. The comments that will be most useful and likely to influence our decisions are those that you support by quantitative information or studies and those that include citations to, and analyses of, the applicable laws and regulations. Please make your comments as specific as possible and explain the basis for them. In addition, please include sufficient information with your comments to allow us to authenticate any scientific or commercial data you include.

You must submit your comments and materials concerning this proposed rule by one of the methods listed above in ADDRESSES. We will not accept comments sent by email or fax or to an address not listed in ADDRESSES. If you submit a comment via http://www.regulations.gov, your entire comment—including any personal identifying information, such as your address, telephone number, or email address—will be posted on the website. When you submit a comment, the system receives it immediately. However, the comment will not be publicly viewable until we post it, which might not occur until several days after submission.

If you mail or hand-carry a hardcopy comment directly to us that includes personal information, you may request at the top of your document that we withhold this information from public review. However, we cannot guarantee that we will be able to do so. All comments and materials we receive will be available for public inspection in two ways:

(1) Via http://www.regulations.gov. Search for FWS-R7-MB-2020-0022, which is the docket number for this rulemaking.

(2) You can make an appointment, during normal business hours, to view the comments and materials in person at the U.S. Fish and Wildlife Service, Division of Migratory Bird Management, MS: MB, 5275 Leesburg Pike, Falls Church, VA 22041-3803; (703) 358-1714.

Background

The Migratory Bird Treaty Act of 1918 (MBTA, 16 U.S.C. 703 et seq.) was enacted to conserve certain species of migratory birds and gives the Secretary of the Interior the authority to regulate the harvest of these birds. The law further authorizes the Secretary to issue regulations to ensure that the indigenous inhabitants of the State of Alaska may take migratory birds and collect their eggs for nutritional and other essential needs during seasons established by the Secretary “so as to provide for the preservation and maintenance of stocks of migratory birds” (16 U.S.C. 712(1)).

The take of migratory birds for subsistence uses in Alaska occurs during the spring and summer, during which timeframe the sport harvest of migratory birds is not allowed. Regulations governing the subsistence harvest of migratory birds in Alaska are located in title 50 of the Code of Federal Regulations (CFR) in part 92. These regulations allow for the continuation of customary and traditional subsistence uses of migratory birds and prescribe regional information on when and where the harvesting of birds in Alaska may occur.

The migratory bird subsistence harvest regulations are developed cooperatively. The Alaska Migratory Bird Co-Management Council (Council) consists of the U.S. Fish and Wildlife Service, the Alaska Department of Fish and Game (ADFG), and representatives of Alaska's Native population. The Council's primary purpose is to develop recommendations pertaining to the subsistence harvest of migratory birds.

The Council generally holds an annual spring meeting to develop recommendations for migratory bird subsistence-harvest regulations in Alaska that would take effect in the spring of the next year. In 2018, the in-person spring meeting did not occur due to funding delays associated with a new Federal review and approval process for financial assistance. Instead, the Council voted via teleconference and email in spring 2018 to approve subsistence harvest regulations that would take effect during the 2019 harvest season. The Council's recommendations were presented to the Pacific Flyway Council (PFC) for review and subsequent submission to the Service Regulations Committee (SRC) for approval at the SRC meeting on October 16-17, 2018. Because development of a proposed rule incorporating changes to subsistence harvest regulations for the 2019 season was delayed, we issued an interim rule that allowed subsistence hunting to begin on April 2, 2019, with the same harvest regulations from the 2018 season.

In 2019, the Council held meetings on April 4-5, to develop recommendations for migratory bird subsistence-harvest regulations in Alaska that would take effect during the 2020 harvest season. The Council's recommendations were presented to the PFC for review and subsequent submission to the SRC for approval at the SRC meeting on October 8-9, 2019.

This proposed rule contains changes to the subsistence harvest regulations recommended by the Council in 2018 and 2019, as described below.

Proposed Revisions to the Regulations

Per the collaborative process described above, this document proposes updates to the regulations for the taking of migratory birds for subsistence uses in Alaska during the spring and summer. This rule also sets forth a list of migratory bird season openings and closures in Alaska by region.

We are proposing the same subsistence harvest regulations in subpart D, Annual Regulations Governing Subsistence Harvest, as those from the 2018 and 2019 subsistence harvest seasons (see 83 FR 13684, March 30, 2018, and 84 FR 12946, April 3, 2019) for the 2020 season with the following five exceptions:

(1) Yukon/Kuskokwim Delta Region 30-Day Closure Period

The Yukon Delta National Wildlife Refuge proposed in 2018 to extend the date range for the 30-day primary nesting period closure from June 1-August 15 to May 15-August 15 for the Yukon/Kuskokwim Delta Region of Alaska. The current date range (June 1-August 15) to set the 30-day closure does not sufficiently protect many nesting waterbird species during early nesting in years that allow early nesting. The proposal extends the date range for the 30-day primary nesting period closure by 2 weeks on the front end to provide Yukon Delta National Wildlife Refuge managers the flexibility to begin the 30-day closure period in May in years that allow early nesting. The proposal was approved by the Council, reviewed by the PFC, and adopted by the SRC in 2018 for implementation beginning with the 2019 subsistence harvest season. However, as described above, the proposed rule incorporating changes to subsistence harvest regulations for the 2019 season was delayed.

(2) North Slope Region Unit Boundary Change

The North Slope Borough Fish and Game Management Committee proposed in 2019 to adjust the boundary between the Northern and Southern Units of the North Slope Region in Alaska to move the communities of Atqasuk and Wainwright from the Southern Unit to the Northern Unit. The North Slope Region is divided into three units (Northern, Southern, and Eastern) due to its large geographic extent. Each of the units is defined by a unique set of season dates, including a 30-day primary nesting period closure, to accommodate high variation in snowmelt patterns, species composition, egg availability, and hunter access across the region. Currently, season dates in the Northern Unit better align with the timing of hunting activities in Atqasuk and Wainwright, relative to spring break-up patterns and the phenology of migratory birds, than those of the Southern Unit. Accordingly, the proposed change will result in season dates that more effectively balance the opportunity for hunters to harvest birds and eggs with an appropriate 30-day closure period to protect birds during the primary nesting period. This change in unit boundaries is not expected to result in increased harvest of birds and eggs in the North Slope Region. The proposed boundary descriptions for the Northern and Southern Units are as follows:

Northern Unit: From Icy Cape, everything east of longitude line 161°55′ W and north of latitude line 69°45′ N to the west bank of Sagavanirktok River and north to 71°.

Southern Unit: Southwestern North Slope Borough boundary northeast to Icy Cape, and everything west of longitude line 161°55′ W and south of latitude line 69°45′ N to the west bank of the Sagavanirktok River and south along the west bank to the North Slope Borough boundary, then west to the beginning.

(3) North Slope Region 30-Day Closure Period

The North Slope Borough Fish and Game Management Committee proposed in 2019 to allow flexible dates for the 30-day primary nesting period closure in the North Slope Region of Alaska. All Alaska subsistence harvest regions, except the Yukon/Kuskokwim Delta (YKD) Region, use fixed dates for the mandatory 30-day primary nesting period closure when bird and egg take is prohibited. The North Slope Region varies annually in multiple environmental and biological factors (e.g., timing of snowmelt, ambient temperature, and birds' body condition). Arctic-nesting geese show wide fluctuations in nesting from year to year in response to annual environmental variations; however, over the past 30 years, studies on several species have demonstrated a consistent trend toward earlier nest initiation. Thus, in some years, the fixed dates of the 30-day closure do not align well with the primary nesting period. This proposal would allow the dates for the 30-day closure period in the North Slope Region to be changed from fixed dates published in the Federal Register to variable, annually derived dates if environmental and biological conditions warrant such a change. If a change in dates is unwarranted, the dates published in the Federal Register would apply.

A North Slope Region working group was established in fall 2019 that includes members from the North Slope Borough Fish and Game Management Committee, North Slope Borough Department of Wildlife, Yukon Delta National Wildlife Refuge (YDNWR), Service Alaska Region-Division of Migratory Bird Management, ADFG, and local villagers to develop a protocol for determining the annual process of establishing the 30-day closure dates, and communicating that information to hunters across the North Slope Region. The protocol will be modeled similarly to that used by the YKD Region, where the YDNWR and the Association of Village Council Presidents (AVCP) annually agree on the 30-day closure dates based on reports of when most birds have initiated nesting from field biologists and local villagers. Upon agreeing to closure dates, the YDNWR and AVCP prepare and distribute outreach materials to announce the closure dates.

(4) North Slope Region Special Brant Hunting Season Boundary

The North Slope Borough Fish and Game Management Committee proposed in 2019 to change the southern boundary of the Special Brant Hunting Season on the North Slope Region of Alaska. Non-breeding and failed-breeding brant annually migrate from the Yukon/Kuskokwim Delta northward along the western coast of Alaska to the Teshekpuk Lake area on the North Slope to undergo molt of primary flight feathers. The Special Black Brant Hunting Season regulations currently allow harvest of migrating brant from June 20 through July 5 along the coastline and in open water around the village of Wainwright. The proposed change would extend the boundary associated with the Special Black Brant Hunting Season south and west to include the entirety of Kasegaluk Lagoon to provide hunters from the village of Point Lay the opportunity to harvest migrating brant. This boundary change may increase brant harvest slightly in the North Slope Region, but any additional harvest is expected to have negligible impact to brant population status.

The proposed boundary description for the North Slope Region's Special Black Brant Hunting Season is as follows:

Special Black Brant Hunting Season: June 20-July 5. The open area consists of the coastline from the mean high-water line outward to the North Slope Borough boundary to include open water and barrier islands from southern Kasegaluk Lagoon from latitude line 69°16′ N to the north and east to longitude line 158°30′ W.

(5) Kodiak Archipelago Region Kodiak Island Roaded Area Closure

In 2019, the Kodiak Archipelago Regional Management Body proposed in the Kodiak Island Roaded Area in the Kodiak Archipelago Region of Alaska to allow migratory bird hunting and egg gathering by registration permit only for a 3-year trial period (2020-2022) after which the regulation would sunset. The Roaded Area would remain closed to hunting and egg gathering for Arctic terns, Aleutian terns, mew gulls, and emperor geese. The purpose of the proposed regulation is to allow all residents of the Kodiak Archipelago Region the opportunity to participate in subsistence hunting activities without the need for a boat. Current regulations close the Roaded Area to all subsistence migratory bird hunting and egg gathering, but allow these activities in adjacent marine waters beyond 500 feet from shore, including offshore islands where access requires a watercraft.

The proposed subsistence hunt in the Roaded Area will be administered as a registration permit hunt with a harvest reporting requirement for a 3-year trial period. Following the 3-year trial period, the Roaded Area would close in 2023 to migratory bird hunting and egg gathering. Reopening the Roaded Area would require a new proposal and approval in 2022. The Roaded Area has been closed to subsistence hunting since spring 2003 when spring-summer subsistence hunting and egg gathering was legalized, so there is a lack of subsistence harvest information for this area. The registration permit hunt with mandatory reporting of hunter activity and harvest will allow estimation of hunter participation, bird and egg harvest, and harvest composition during the 3-year trial period. These data will inform a proposal and decision to reopen the Roaded Area to subsistence hunting in the future. The Roaded Area registration permit will be administered by the ADFG Division of Subsistence in cooperation with the Sun'aq Tribe of Kodiak. Administration of the registration permit will be similar to that of the registration permit for subsistence hunting administered successfully in Cordova, Alaska, that has a reporting rate of 93 percent.

The Council recognized the necessity to protect species of conservation concern if a registration permit for subsistence hunting is approved for the Roaded Area; thus, spring-summer subsistence hunting and egg gathering in the Roaded Area would remain closed for Arctic terns, Aleutian terns, mew gulls, and emperor geese. Arctic and Aleutian tern nesting colonies have declined by greater than 80 percent in Alaska over the last 20 years, and only a few colonies remain on Kodiak Island, the largest of which are within the Roaded Area. Thus, protecting these tern species from further decline is a high priority of multiple stakeholders including the Council. Furthermore, the Roaded Area would remain closed to take of mew gulls and eggs because colony-level disturbance from targeted mew gull harvest could be detrimental to nesting terns and mew gull nests, and eggs may be confused with those of terns resulting in incidental harvest of tern eggs. Also, the Roaded Area would remain closed to take of emperor geese out of concern that it would provide unrestricted hunter access to a relatively small wintering population of emperor geese that utilize several bays near the road system, potentially increasing harvest vulnerability of a carefully managed species.

Compliance With the MBTA and the Endangered Species Act

The Service has dual objectives and responsibilities for authorizing a subsistence harvest while protecting migratory birds and endangered and threatened species. Although these objectives continue to be challenging, they are not irreconcilable, provided that: (1) Regulations continue to protect endangered and threatened species; (2) measures to address documented threats are implemented; and (3) the subsistence community and other conservation partners commit to working together.

Mortality, sickness, and poisoning from lead exposure have been documented in many waterfowl species, including threatened spectacled and Steller's eiders. While lead shot has been banned nationally for waterfowl hunting since 1991, Service staff have documented significant availability of lead shot in waterfowl rounds for sale in communities on the Yukon-Kuskokwim Delta and North Slope. The Service will work with partners to increase our education, outreach, and enforcement efforts to ensure that subsistence waterfowl hunting is conducted using nontoxic shot.

Conservation Under the MBTA

We have monitored subsistence harvest for more than 25 years through the use of household surveys in the most heavily used subsistence harvest areas, such as the Yukon-Kuskokwim Delta. Based on our monitoring of the migratory bird species and populations taken for subsistence, we find that this rule will provide for the preservation and maintenance of migratory bird stocks as required by the MBTA. Communication and coordination between the Service, the Co-management Council, and the Pacific Flyway Council have allowed us to set harvest regulations to ensure the long-term viability of the migratory bird stocks. In addition, Alaska migratory bird subsistence harvest rates have continued to decline since the inception of the subsistence-harvest program, reducing concerns about the program's consistency with the preservation and maintenance of stocks of migratory birds.

Endangered Species Act Consideration

Spectacled eiders (Somateria fischeri) and the Alaska-breeding population of Steller's eiders (Polysticta stelleri) are listed as threatened species under the Endangered Species Act of 1973, as amended (ESA; 16 U.S.C. 1531 et seq.). Their migration and breeding distribution overlap with areas where the spring and summer subsistence migratory bird hunt is open in Alaska. Neither species is included in the list of subsistence migratory bird species at 50 CFR 92.22; therefore, both species are closed to subsistence harvest. The Service notes that progress is being made with other eider conservation measures, including partnering with the North Slope Migratory Bird Task Force, for increased waterfowl-hunter awareness, continued enforcement of the regulations, and in-season verification of the harvest. Moreover, under 50 CFR 92.21 and 92.32, the Service may implement emergency closures, if necessary, to protect Steller's eiders or any other endangered or threatened species or migratory bird population.

Section 7 of the ESA requires the Secretary of the Interior to review other programs administered by the Department of the Interior and utilize such programs in furtherance of the purposes of the ESA. The Secretary is further required to insure that any action authorized, funded, or carried out by the Department of the Interior is not likely to jeopardize the continued existence of any endangered species or threatened species or result in the destruction or adverse modification of critical habitat.

The Alaska Division of Migratory Bird Management conducted an intra-agency consultation with the Service's Fairbanks Fish and Wildlife Field Office on this proposed and a related interim rule. The consultation was completed with a biological opinion that concluded these rulemaking actions are not likely to jeopardize the continued existence of endangered or threatened species or result in the destruction or adverse modification of designated critical habitat. Therefore, we have determined that this rule complies with the ESA.

Comment Period

Implementation of the Service's 2013 supplemental environmental impact statement on the hunting of migratory birds resulted in changes to the overall timing of the annual regulatory schedule for the establishment of migratory bird hunting regulations and the Alaska migratory bird subsistence harvest regulations. The programmatic document, “Second Final Supplemental Environmental Impact Statement: Issuance of Annual Regulations Permitting the Sport Hunting of Migratory Birds (EIS 20130139),” filed with the Environmental Protection Agency (EPA) on May 24, 2013, addresses compliance with the National Environmental Policy Act by the Service for issuance of the annual framework regulations for hunting of migratory game bird species. We published a notice of availability in the Federal Register on May 31, 2013 (78 FR 32686), and our Record of Decision on July 26, 2013 (78 FR 45376).

Moving the annual SRC meeting from July to October has greatly shortened our period to publish the proposed regulations and solicit comments. We are further bounded by a subsistence harvest start date of April 2, 2020. Thus, we have established a 30-day comment period for this proposed rule (see DATES, above), and we will be conducting tribal consultations within Alaska simultaneously. We believe a 30-day comment period gives the public adequate time to provide meaningful comments.

Required Determinations

Executive Order 13771—Reducing Regulation and Controlling Regulatory Costs

This proposed rule is not subject to the requirements of Executive Order 13771 (82 FR 9339, February 3, 2017) because this proposed rule would establish annual harvest limits related to routine hunting or fishing.

Regulatory Planning and Review (Executive Orders 12866 and 13563)

Executive Order 12866 provides that the Office of Information and Regulatory Affairs (OIRA) will review all significant rules. OIRA has determined that this proposed rule is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this proposed rule in a manner consistent with these requirements.

Regulatory Flexibility Act

The Department of the Interior certifies that this proposed rule will not have a significant economic impact on a substantial number of small entities as defined under the Regulatory Flexibility Act (5 U.S.C. 601 et seq.). A regulatory flexibility analysis is not required. Accordingly, a Small Entity Compliance Guide is not required. This proposed rule would legalize a preexisting subsistence activity, and the resources harvested will be consumed.

Small Business Regulatory Enforcement Fairness Act

This proposed rule is not a major rule under 5 U.S.C. 804(2), the Small Business Regulatory Enforcement Fairness Act. This proposed rule:

(a) Would not have an annual effect on the economy of $100 million or more. It legalizes and regulates a traditional subsistence activity. It will not result in a substantial increase in subsistence harvest or a significant change in harvesting patterns. The commodities that will be regulated under this rule are migratory birds. This proposed rule deals with legalizing the subsistence harvest of migratory birds and, as such, does not involve commodities traded in the marketplace. A small economic benefit from this rule derives from the sale of equipment and ammunition to carry out subsistence hunting. Most, if not all, businesses that sell hunting equipment in rural Alaska qualify as small businesses. We have no reason to believe that this proposed rule would lead to a disproportionate distribution of benefits.

(b) Would not cause a major increase in costs or prices for consumers; individual industries; Federal, State, or local government agencies; or geographic regions. This proposed rule does not deal with traded commodities and, therefore, would not have an impact on prices for consumers.

(c) Would not have significant adverse effects on competition, employment, investment, productivity, innovation, or the ability of U.S.-based enterprises to compete with foreign-based enterprises. This proposed rule deals with the harvesting of wildlife for personal consumption. It would not regulate the marketplace in any way to generate substantial effects on the economy or the ability of businesses to compete.

Unfunded Mandates Reform Act

We have determined and certified under the Unfunded Mandates Reform Act (2 U.S.C. 1501 et seq.) that this rule will not impose a cost of $100 million or more in any given year on local, State, or tribal governments or private entities. The proposed rule would not have a significant or unique effect on State, local, or tribal governments or the private sector. A statement containing the information required by the Unfunded Mandates Reform Act is not required. Participation on regional management bodies and the Co-management Council requires travel expenses for some Alaska Native organizations and local governments. In addition, they assume some expenses related to coordinating involvement of village councils in the regulatory process. Total coordination and travel expenses for all Alaska Native organizations are estimated to be less than $300,000 per year. In a notice of decision (65 FR 16405; March 28, 2000), we identified 7 to 12 partner organizations (Alaska Native nonprofits and local governments) to administer the regional programs. The ADFG also incurs expenses for travel to Council and regional management body meetings. In addition, the State of Alaska would be required to provide technical staff support to each of the regional management bodies and to the Council. Expenses for the State's involvement may exceed $100,000 per year, but should not exceed $150,000 per year. When funding permits, we make annual grant agreements available to the partner organizations and the ADFG to help offset their expenses.

Takings (Executive Order 12630)

Under the criteria in Executive Order 12630, this proposed rule would not have significant takings implications. This proposed rule is not specific to particular land ownership, but applies to the harvesting of migratory bird resources throughout Alaska. A takings implication assessment is not required.

Federalism (Executive Order 13132)

Under the criteria in Executive Order 13132, this proposed rule does not have sufficient federalism implications to warrant the preparation of a federalism summary impact statement. We discuss effects of this rule on the State of Alaska in the Unfunded Mandates Reform Act section, above. We worked with the State of Alaska to develop these proposed regulations. Therefore, a federalism summary impact statement is not required.

Civil Justice Reform (Executive Order 12988)

The Department, in promulgating this proposed rule, has determined that it would not unduly burden the judicial system and that it meets the requirements of sections 3(a) and 3(b)(2) of Executive Order 12988.

Government-to-Government Relations With Native American Tribal Governments

Consistent with Executive Order 13175 (65 FR 67249; November 6, 2000), “Consultation and Coordination with Indian Tribal Governments,” and Department of Interior policy on Consultation with Indian Tribes (December 1, 2011), we will send letters via electronic mail to all 229 Alaska Federally recognized Indian tribes. Consistent with Congressional direction (Pub. L. 108-199, div. H, Sec. 161, Jan. 23, 2004, 118 Stat. 452, as amended by Pub. L. 108-447, div. H, title V, Sec. 518, Dec. 8, 2004, 118 Stat. 3267), we also will send letters to approximately 200 Alaska Native corporations and other tribal entities in Alaska soliciting their input as to whether or not they would like the Service to consult with them on the proposed migratory bird subsistence harvest regulations.

We implemented the amended treaty with Canada with a focus on local involvement. The treaty calls for the creation of management bodies to ensure an effective and meaningful role for Alaska's indigenous inhabitants in the conservation of migratory birds. According to the Letter of Submittal, management bodies are to include Alaska Native, Federal, and State of Alaska representatives as equals. They develop recommendations for, among other things: Seasons and bag limits, methods and means of take, law enforcement policies, population and harvest monitoring, education programs, research and use of traditional knowledge, and habitat protection. The management bodies involve village councils to the maximum extent possible in all aspects of management. To ensure maximum input at the village level, we required each of the 11 participating regions to create regional management bodies consisting of at least one representative from the participating villages. The regional management bodies meet twice annually to review and/or submit proposals to the statewide body.

Paperwork Reduction Act of 1995 (PRA)

This rule does not contain any new collections of information that require Office of Management and Budget (OMB) approval under the PRA (44 U.S.C. 3501 et seq.). We may not conduct or sponsor and you are not required to respond to a collection of information unless it displays a currently valid OMB control number. OMB has reviewed and approved our collection of information associated with voluntary annual household surveys that we use to determine levels of subsistence take (OMB Control Number 1018-0124, expires August 31, 2022).

National Environmental Policy Act Consideration (42 U.S.C. 4321 et seq.)

The annual regulations and options are considered in a February 2020 environmental assessment, “Managing Migratory Bird Subsistence Hunting in Alaska: Hunting Regulations for the 2020 Spring/Summer Harvest.” Copies are available from the person listed under FOR FURTHER INFORMATION CONTACT or at http://www.regulations.gov.

Energy Supply, Distribution, or Use (Executive Order 13211)

Executive Order 13211 requires agencies to prepare Statements of Energy Effects when undertaking certain actions. This is not a significant regulatory action under this Executive Order; it allows only for traditional subsistence harvest and improves conservation of migratory birds by allowing effective regulation of this harvest. Further, this proposed rule is not expected to significantly affect energy supplies, distribution, or use. Therefore, a Statement of Energy Effects is not required.

List of Subjects in 50 CFR Part 92

Hunting, Treaties, Wildlife.

Proposed Regulation Promulgation

For the reasons set out in the preamble, we propose to amend title 50, chapter I, subchapter G, of the Code of Federal Regulations as follows:

PART 92—MIGRATORY BIRD SUBSISTENCE HARVEST IN ALASKA

1. The authority citation for part 92 continues to read as follows:

Authority: 16 U.S.C. 703-712.

2. Amend § 92.31 by:

a. Revising paragraph (b)(2);

b. Revising the first sentence of paragraph (e) and adding a new sentence to follow the newly revised first sentence;

c. Revising the introductory text of paragraph (g)(1) and paragraphs (g)(1)(iii) and (g)(2); and

d. Redesignating paragraphs (g)(4) and (g)(5) as paragraphs (g)(5) and (g)(6) and adding a new paragraph (g)(4).

The revisions and additions read as follows:

§ 92.31 Region-specific regulations.

* * * * *

(b) * * *

(2) Closure: 30-day closure dates to be announced by the Service's Alaska Regional Director or his designee, after consultation with field biologists and the Association of Village Council President's Waterfowl Conservation Committee. This 30-day period will occur between May 15 and August 15 of each year. A press release announcing the actual closure dates will be forwarded to regional newspapers and radio and television stations.

* * * * *

(e) Kodiak Archipelago region. The Kodiak Island Roaded Area is open to the harvesting of migratory birds and their eggs by registration permit only as administered by the Alaska Department of Fish and Game, Division of Subsistence, in cooperation with the Sun'aq Tribe of Kodiak. No hunting or egg gathering for Arctic terns, Aleutian terns, mew gulls, and emperor geese is allowed for the Kodiak Island Roaded Area Registration Permit Hunt. * * *

(g) * * *

(1) Southern Unit (Southwestern North Slope Borough boundary northeast to Icy Cape, and everything west of longitude line 161°55′ W and south of latitude line 69°45′ N to the west bank of the Sagavanirktok River and south along the west bank to the North Slope Borough boundary, then west to the beginning):

* * * * *

(iii) Special Black Brant Hunting Season: June 20-July 5. The open area consists of the coastline from the mean high-water line outward to the North Slope Borough boundary to include open water and barrier islands from southern Kasegaluk Lagoon from latitude line 69°16′ N to the north and east to longitude line 158°30′ W.

(2) Northern Unit (From Icy Cape, everything east of longitude line 161°55′ W and north of latitude line 69°45′ N to the west bank of Sagavanirktok River and north to 71°):

* * * * *

(4) Annual 30-day closure periods in the Southern, Northern, and Eastern Units of the North Slope Region may differ from fixed dates (see unit-specific closure dates in paragraphs (g)(1) through (3) of this section) if environmental and biological conditions warrant such a change. After consultation with Service field biologists, the North Slope Borough (NSB) Department of Wildlife Management, and the NSB Fish and Game Management Committee, the Service's Alaska Regional Director or his/her designee may announce closure dates that differ from those fixed dates. The 30-day period closure period will occur between June 7 and July 29 of each year.

* * * * *

George Wallace,
Assistant Secretary for Fish and Wildlife and Parks.

[FR Doc. 2020-09368 Filed 5-8-20; 8:45 am]

BILLING CODE 4333-15-P